DEPARTMENT OF THE INTERIOR

Fish and Wildlife Service

[FWS-HQ-FHC-2017-N033; FXFR131109WFHS0-167-FF09F10000]

Information Collection Request Sent to the Office of Management and Budget for Approval; Injurious Wildlife; Importation Certification for Live Fish and Fish Eggs

AGENCY: Fish and Wildlife Service, Interior.

ACTION: Notice; request for comments.

SUMMARY: We (U.S. Fish and Wildlife Service) have sent an Information Collection Request (ICR) to the Office of Management and Budget (OMB) for review and approval. We summarize the ICR below and describe the nature of the collection and the estimated burden and cost. This information collection is scheduled to expire on March 31, 2017. We may not conduct or sponsor and a person is not required to respond to a collection of information unless it displays a currently valid OMB control number. However, under OMB regulations, we may continue to conduct or sponsor this information collection while it is pending at OMB.

DATES: You must submit comments on or before May 1, 2017.

ADDRESSES: Send your comments and suggestions on this information collection to the Desk Officer for the Department of the Interior at OMB-OIRA at (202) 395-5806 (fax) or OIRA_DOCKET@OMB.eop.gov (email). Please provide a copy of your comments to the Service Information Collection Clearance Officer, U.S. Fish and Wildlife Service, MS BPHC, 5275 Leesburg Pike, Falls Church, VA 22041-3803 (mail), or madonna_baucum@fws.gov (email). Please include “1018-0078” in the subject line of your comments. You may review the ICR online at http://www.reginfo.gov. Follow the instructions to review Department of the Interior collections under review by OMB.

FOR FURTHER INFORMATION CONTACT: Madonna Baucum, at madonna_baucum@fws.gov (email) or (703) 358-2503 (telephone).

SUPPLEMENTARY INFORMATION:

I. Abstract

The Lacey Act (18 U.S.C. 42) (Act) prohibits the importation of any animal deemed to be and prescribed by regulation to be injurious to:

• Human beings;

• The interests of agriculture, horticulture, and forestry; or

• Wildlife or the wildlife resources of the United States.

The Department of the Interior is charged with implementation and enforcement of this Act. The 50 CFR 16.13 regulations allow for the importation of dead uneviscerated salmonids (family Salmonidae), live salmonids, live fertilized eggs, or gametes of salmonid fish into the United States. To effectively carry out our responsibilities and protect the aquatic resources of the United States, it is necessary to collect information regarding the source, destination, and health status of salmonid fish and their reproductive parts. In order to evaluate import requests that contain this data, it is imperative that the information collected is accurate. Those individuals who provide the fish health data and sign the health certificate must demonstrate professional qualifications, and be approved as Title 50 Certifiers by the Fish and Wildlife Service through an application process.

We use three forms to collect this Title 50 Certifier application information:

(1) FWS Form 3-2273 (Title 50 Certifying Official Form). New applicants and those seeking recertification as a title 50 certifying official provide information so that we can assess their qualifications.

(2) FWS Form 3-2274 (U.S. Title 50 Certification Form). Certifying officials use this form to affirm the health status of the fish or fish reproductive products to be imported.

(3) FWS Form 3-2275 (Title 50 Importation Request Form). We use the information on this form to ensure the safety of the shipment and to track and control importations.

II. Data

OMB Control Number: 1018-0078.

Title: Injurious Wildlife; Importation Certification for Live Fish and Fish Eggs (50 CFR 16.13).

Service Form Number(s): FWS Forms 3-2273, 3-2274, and 3-2275.

Type of Request: Extension of a currently approved collection.

Description of Respondents: Aquatic animal health professionals seeking to be certified title 50 inspectors; certified title 50 inspectors who have performed health certifications on live salmonids; and any entity wishing to import live salmonids or salmonid reproductive products into the United States.

Respondent's Obligation: Required to obtain or retain a benefit.

Frequency of Collection: On occasion.

Requirement | Annual number of respondents | Total annual responses | Completion time per response | Total annual burden hours *
FWS Form 3-2273 (Title 50 Certifying Official Form)
Private Sector | 9 | 9 | 1 hour | 9
Government | 7 | 7 | 1 hour | 7
FWS Form 3-2274 (U.S. Title 50 Health Certification Form)
Private Sector | 10 | 20 | 30 minutes | 10
Government | 15 | 30 | 30 minutes | 15
FWS Form 3-2275 (Title 50 Importation Request Form)
Private Sector | 10 | 20 | 15 minutes | 5
Government | 15 | 30 | 15 minutes | 8
Totals: | 66 | 116 |  | 54
* Rounded.

Estimated Annual Nonhour Burden Cost: None.

III. Comments

On December 19, 2016, we published in the Federal Register (81 FR 91944) a notice of our intent to request that OMB renew approval for this information collection. In that notice, we solicited comments for 60 days, ending on February 17, 2017. We received one formal comment in response to that notice. That comment was critical of the 50 CFR 16.13 regulations generally, suggesting that no salmonid fishes be imported into the United States and that we utilize only domestic salmonids for propagation and aquaculture purposes. Although we allow importation of salmonids and their reproductive parts, we regulate their importation because they may carry harmful pathogens. The Service, however, agrees that the further development of a domestic salmonid fish trade could lessen the demand for imported fishes.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Authority

The authorities for this action are the Lacey Act (18 U.S.C. 42; Act), and the Paperwork Reduction Act of 1995 (44 U.S.C. 3501 et seq.).

Dated: March 24, 2017.
Tina A. Campbell,
Division of Policy, Performance, and Management Programs, U.S. Fish and Wildlife Service.

[FR Doc. 2017-06259 Filed 3-29-17; 8:45 am]

BILLING CODE 4333-15-P